Title 3—

The President

Proclamation 7982 of February 24, 2006

American Red Cross Month, 2006

By the President of the United States of America

A Proclamation

Throughout our Nation's history, Americans have worked together to care for those in need. The work of the American Red Cross exemplifies this tradition and reflects the good heart of our country. This year during American Red Cross Month, we recognize this organization for its 125 years of faithful service to our Nation and for its continued mission to help those in need at home and abroad.

Since Clara Barton founded the organization in 1881, the American Red Cross has offered aid and disaster relief to millions of individuals. From conducting blood drives and arranging family communications and other forms of support for our troops to providing relief for victims of natural disasters, the American Red Cross carries out emergency response around the globe. Local chapters help American communities respond to regional catastrophes and promote emergency preparedness with American Red Cross First Aid and CPR courses. Members of these chapters serve their communities by visiting homebound seniors, mentoring youth, distributing hot lunches, volunteering at homeless shelters, and offering transitional housing. They also educate young people on violence and substance abuse prevention and help in hospitals and nursing homes.

In 2005, a devastating hurricane season left millions displaced and homeless. The American Red Cross network of more than 800 chapters and thousands of volunteers provided food, shelter, counseling, and care to more than a million Gulf Coast families. Working in coordination with the International Red Cross and Red Crescent Movement, the American Red Cross has also assisted with relief efforts for victims of hurricanes and landslides in Latin America and the recent earthquake in South Asia.

By donating their time and energy to selflessly serve others, American Red Cross volunteers demonstrate the compassion and generosity for which Americans are known. Their service paves the way to a brighter future for our citizens and people around the world.

NOW, THEREFORE, I, GEORGE W. BUSH, President of the United States of America and Honorary Chairman of the American Red Cross, by virtue of the authority vested in me by the Constitution and laws of the United States, do hereby proclaim March 2006 as American Red Cross Month. I commend the good work of the American Red Cross, and I encourage all Americans to continue to help the recovery efforts in the Gulf Coast region and around the world through volunteering their time, energy, and talents for others.

IN WITNESS WHEREOF, I have hereunto set my hand this twenty-fourth day of February, in the year of our Lord two thousand six, and of the Independence of the United States of America the two hundred and thirtieth.

B

[FR Doc. 06-1968

Filed 2-28-06; 8:45 am]

Billing code 3195-01-P